ENVIRONMENTAL PROTECTION AGENCY

[FRL-8332-9; Docket ID No. EPA-HQ-ORD-2007-0517]

Integrated Science Assessment for Particulate Matter

AGENCY: Environmental Protection Agency.

ACTION: Notice; call for information.

SUMMARY: The U.S. Environmental Protection Agency (EPA), Office of Research and Development National Center for Environmental Assessment (NCEA) is preparing an Integrated Science Assessment (ISA) as part of the review of the National Ambient Air Quality Standards (NAAQS) for particulate matter (PM). This ISA is intended to update and revise, where appropriate, the scientific assessment presented in the Air Quality Criteria for Particulate Matter (PM), EPA/600/P-99/002aF-bF, published in October 2004. Interested parties are invited to assist the EPA in developing and refining the scientific information base for PM by submitting research studies that have been published, accepted for publication, or presented at a public scientific meeting.

DATES: All communications and information should be submitted by August 27, 2007.

ADDRESSES: Information may be submitted electronically, by mail, by facsimile, or by hand delivery/courier. Please follow the detailed instructions as provided in the section of this notice entitled SUPPLEMENTARY INFORMATION.

FOR FURTHER INFORMATION CONTACT: For details on submitting research information from the public, contact the Office of Environmental Information (OEI) Docket; telephone: 202-566-1752; facsimile: 202-566-1753; or e-mail: ORD.Docket@epa.gov. For technical information, contact Lori White, PhD, NCEA; telephone: 919-541-3146; facsimile: 919-541-1818; or e-mail: white.lori@epa.gov.

SUPPLEMENTARY INFORMATION:

I. Information About the Project

Section 108(a) of the Clean Air Act (CAA) directs the Administrator to identify certain pollutants which “in his judgment, may reasonably be anticipated to endanger public health and welfare” and whose “presence * * * in the ambient air results from numerous or diverse mobile or stationary sources” and to issue air quality criteria for them. These air quality criteria are to “accurately reflect the latest scientific knowledge useful in indicating the kind and extent of all identifiable effects on public health or welfare which may be expected from the presence of [a] pollutant in the ambient air. * * *” Under section 109 of the CAA, EPA establishes National Ambient Air Quality Standards (NAAQS) for each pollutant for which EPA has issued criteria. Section 109(d) requires periodic review and, if appropriate, revision of existing air quality criteria to reflect advances in scientific knowledge on the effects of the pollutant on public health and welfare. EPA is then to revise the NAAQS, if appropriate, based on the revised air quality criteria.

Particulate matter is one of six principal (or “criteria”) pollutants for which EPA has established NAAQS. Periodically, EPA reviews the scientific basis for these standards by preparing an Integrated Science Assessment (ISA), historically referred to as an Air Quality Criteria Document (AQCD). The ISA and supplementary annexes are the scientific bases for the additional technical and policy assessments that form the basis for EPA decisions on the adequacy of a current NAAQS and the appropriateness of new or revised standards. Early steps in this process include announcing the beginning of this periodic NAAQS review and the development of the ISA and requesting that the public submit scientific literature that they want to bring to the attention of the Agency as it begins this process. The Clean Air Scientific Advisory Committee (CASAC), an independent science advisory committee whose function is mandated by section 109(d)(2) of the CAA, is charged with independent expert scientific review of EPA's draft ISAs. As the process proceeds, the public will have opportunities to review and comment on the draft PM ISA. These opportunities will also be announced in the Federal Register. Since completion of the 2004 Air Quality Criteria for PM, EPA has continued to follow the scientific research on PM exposure and its effects on health and the environment. On July 21, 2006, EPA published a Provisional Assessment of Recent Studies on Health Effects of Particulate Matter Exposure (EPA/600/R-06/063) which presents findings of EPA's survey and provisional assessment of studies relevant to assessing the health effects of PM that were published too recently to be included in the 2004 PM AQCD. (71 FR 41409-10)

The Agency is interested in obtaining additional new information relevant to this review of the NAAQS for PM. We are especially interested in information concerning: (a) Toxicological studies of effects of controlled exposure to PM on laboratory animals, humans, and in vitro systems; (b) epidemiologic (observational) studies of health effects associated with ambient exposures of human populations to PM; and (c) ecological studies of the effects on agricultural crops and natural terrestrial and/or aquatic ecosystems of ambient exposures to PM. EPA also seeks recent information in other areas of PM research such as chemistry and physics, sources and emissions, analytical methodology, transport and transformation in the environment, and ambient concentrations. This and other selected literature relevant to a review of the NAAQS for PM will be assessed in the forthcoming PM ISA. One or more drafts of the PM ISA are expected to be made available by EPA for public comment and CASAC review during 2008 and 2009. Other opportunities for submission of new peer-reviewed, published (or in-press) papers will be possible as part of public comment on the additional draft documents that will be reviewed by CASAC. As part of this review of the PM NAAQS, EPA is also sponsoring a workshop entitled, “Workshop to Discuss Policy-Relevant Science to Inform EPA's Integrated Plan for the Review of the Primary Particulate Matter (PM) National Ambient Air Quality Standards (NAAQS)” to highlight significant new and emerging PM research, and to make recommendations to the Agency regarding the design and scope of the review for the primary (health-based) PM standards to ensure that it addresses key policy-relevant issues and considers the new science that is relevant to informing our understanding of these issues. (72 FR 34003-04).

II. How To Submit Information to the Docket at www.regulations.gov.

Submit your materials, identified by Docket ID No. EPA-HQ-ORD-2007-0517 by one of the following methods:

• http://www.regulations.gov: Follow the on-line instructions for submitting information.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide information by mail or hand delivery, please submit three copies of the materials. For attachments, provide an index, number pages consecutively, and submit an unbound original and three copies.

Instructions: Direct your materials to Docket ID No. EPA-HQ-ORD-2007-0517. It is EPA's policy to include all submitted materials in the public docket without change and to make the information available online at http://www.regulations.gov, including any personal information provided, unless it includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it within the submitted materials. If you submit information directly to EPA by e-mail without going through http://www.regulations.gov, your e-mail address will be automatically captured and included as part of the information that is placed in the public docket and made available on the Internet. If you submit materials electronically, EPA recommends that you include your name and other contact information in the body of your comment and with any disk or CD-ROM you submit. If EPA cannot read your submitted material due to technical difficulties and cannot contact you for clarification, EPA may not be able to consider your submission. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: June 22, 2007.
Peter W. Preuss,
Director,National Center for Environmental Assessment.

[FR Doc. E7-12569 Filed 6-27-07; 8:45 am]

BILLING CODE 6560-50-P